DEPARTMENT OF HEALTH AND HUMAN SERVICES

Agency for Healthcare Research and Quality

Patient Safety Organizations: Delisting for Cause for Leadership Triad

AGENCY: Agency for Healthcare Research and Quality (AHRQ), HHS.

ACTION: Notice of delisting.

SUMMARY: AHRQ has delisted Leadership Triad due to its failure to correct a deficiency. The Patient Safety and Quality Improvement Act of 2005 (Patient Safety Act), Public Law 109-41, 42 U.S.C. 299b-21—b-26, authorizes the listing of Patient Safety Organizations (PSOs), which are entities or component organizations whose mission and primary activity is to conduct activities to improve patient safety and the quality of health care delivery. HHS issued the Patient Safety and Quality Improvement Final Rule (Patient Safety Rule) to implement the Patient Safety Act. AHRQ administers the provisions of the Patient Safety Act and Patient Safety Rule relating to the listing and operation of PSOs.

DATES: The directories for both listed and delisted PSOs are ongoing and reviewed weekly by AHRQ. The delisting was effective at 12:00 Midnight ET (2400) on October 4, 2013.

ADDRESSES: Both directories can be accessed electronically at the following HHS Web site: http://www.pso.AHRQ.gov/index.html.

FOR FURTHER INFORMATION CONTACT: Eileen Hogan, Center for Quality Improvement and Patient Safety, AHRQ, 540 Gaither Road, Rockville, MD 20850; Telephone (toll free): (866) 403-3697; Telephone (local): (301) 427-1111; TTY (toll free): (866) 438-7231; TTY (local): (301) 427-1130; Email: pso@AHRQ.hhs.gov.

SUPPLEMENTARY INFORMATION:

Background

The Patient Safety Act, provides for the formation of PSOs, which collect, aggregate, and analyze confidential information regarding the quality and safety of health care delivery. The Patient Safety Rule, 42 CFR Part 3, authorizes AHRQ, on behalf of the Secretary of HHS, to list as a PSO an entity that attests that it meets the statutory and regulatory requirements for listing. A PSO can be “delisted” by the Secretary if it is found to no longer meet the requirements of the Patient Safety Act and Patient Safety Rule. Section 3.108(d) of the Patient Safety Rule requires AHRQ to provide public notice when it removes an organization from the list of federally approved PSOs.

In response to a Notice of Proposed Revocation and Delisting sent by AHRQ pursuant to 42 CFR 3.108(a)(3)(iii)(C), Leadership Triad stated that it did not meet the requirement that, within 24 months of initial listing, the PSO must have two bona fide contracts with different providers for the purpose of receiving and reviewing patient safety work product. Accordingly, pursuant to 42 CFR 3.108(a)(5), the notice of proposed revocation was affirmed and AHRQ revoked the listing of Leadership Triad, PSO number P0117, a component entity of Triad Health Care LLC, effective at 12:00 Midnight ET (2400) on October 4, 2013.

More information on PSOs can be obtained through AHRQ's PSO Web site at http://www.pso.AHRQ.gov/index.html.

Dated: November 14, 2013.
Richard Kronick,
Director.

[FR Doc. 2013-28279 Filed 11-25-13; 8:45 am]

BILLING CODE 4160-90-P